FEDERAL COMMUNICATIONS COMMISSION

Sunshine Act Meeting; Open Commission Meeting; Wednesday, January 20, 2010

Date: January 13, 2010.

The Federal Communications Commission will hold an Open Meeting on the subjects listed below on Wednesday, January 20, 2010, which is scheduled to commence at 10:30 a.m. in Room TW-C305, at 445 12th Street, SW., Washington,

The meeting will also include a report on the status of the National Broadband plan.

ITEM NO. | BUREAU | SUBJECT
1 | MEDIA | TITLE: Review of the Commission's Program Access Rules and Examination of Programming Tying Arrangements (MB Docket No. 07-198) SUMMARY: The Commission will consider a Report and Order to further promote competition in the video distribution market through rules addressing terrestrially delivered, cable-affiliated programming.
2 | WIRELESS TELE-COMMUNICATIONS | TITLE: Amendment of Parts 15, 74 and 90 of the Commission's Rules Regarding Low Power Auxiliary Stations, Including Wireless Microphones (WT Docket No. 08-166) SUMMARY: The Commission will consider an Order and Further Notice of Proposed Rulemaking to complete an important component of the DTV transition by prohibiting the further distribution and sale of devices that operate in the 700 MHz frequency and setting a date by which existing devices must clear the band to enable the rollout of public safety services and accelerate the deployment of next generation wireless networks.
3 | CONSUMER GOVERNMENTAL AFFAIRS | TITLE: Rules and Regulations Implementing the Telephone Consumer Protection Act of 1991 (CG Docket No. 02-278) SUMMARY: The Commission will consider a Notice of Proposed Rulemaking that would harmonize the Commission's rules regarding prerecorded telemarketing calls with the Federal Trade Commission's recently amended Telemarketing Sales Rule.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov <mailto:fcc504@fcc.gov> or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live <http://www.fcc.gov/live>.

For a fee this meeting can be viewed live over George Mason University's Capitol Connection. The Capitol Connection also will carry the meeting live via the Internet. To purchase these services call (703) 993-3100 or go to www.capitolconnection.gmu.edu <http://www.capitolconnection.gmu.edu>.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary, Office of the Secretary, Office of Managing Director.

[FR Doc. 2010-949 Filed 1-14-10; 4:15 pm]

BILLING CODE 6712-01-S